FEDERAL MINE SAFETY AND HEALTH REVIEW COMMISSION

Sunshine Act Meetings

TIME AND DATE: 10 a.m., Thursday, July 24, 2025.

PLACE: The Richard V. Backley Hearing Room, Room 511, 1331 Pennsylvania Avenue NW, Suite 504 North, Washington, DC 20004 (enter from F Street entrance).

STATUS: Open.

MATTERS TO BE CONSIDERED: The Commission will consider and act upon the following in open session: Cecil Matney, Jr. v. Rockwell Mining, LLC, Docket No. WEVA 2023-0126 (Issues include whether the Judge erred in sustaining a complaint, brought pursuant to 30 U.S.C. 815(c)(3), based on the operator's alleged violations of 30 CFR part 90).

Any person attending this meeting who requires special accessibility features and/or auxiliary aids, such as sign language interpreters, must inform the Commission in advance of those needs. Subject to 29 CFR 2706.150(a)(3) and 2706.160(d).

CONTACT PERSON FOR MORE INFO: Emogene Johnson (202) 434-9935/(202) 708-9300 for TDD Relay/1-800-877-8339 for toll free.

Phone Number for Listening to Meeting: 1-(866) 236-7472.

Passcode: 678-100.

(Authority: 5 U.S.C. 552b)

Dated: July 10, 2025.
Rory P. Smith,
Attorney-Advisor.

[FR Doc. 2025-13173 Filed 7-10-25; 4:15 pm]

BILLING CODE 6735-01-P